DEPARTMENT OF AGRICULTURE

Rural Utilities Service

East Kentucky Power Cooperative: Notice of Intent To Prepare a Supplemental Environmental Impact Statement

AGENCY: Rural Utilities Service, USDA.

ACTION: Notice of intent to hold a public scoping meeting and prepare a supplemental environmental impact statement (SEIS).

SUMMARY: The Rural Utilities Service (RUS), an agency which administers the U. S. Department of Agriculture's Rural Development Utilities Programs (USDA/RDUP) proposes to prepare a Supplemental Environmental Impact Statement (SEIS) and conduct a public scoping meeting related to possible financial assistance to East Kentucky Power Cooperative (EKPC) for the proposed construction of two 278 MW Circulating Fluidized Bed generating units (CFBs) in Clark County, Kentucky. EKPC is requesting that RUS provide financial assistance for the proposed project.

DATE: RUS will conduct a public scoping meeting in an open-house format: October 18, 2006, Trapp, Kentucky, at Trapp Elementary School, 11400 Irvine Road; The open house will be held from 5:30-8 p.m.

ADDRESSES: Written comments should be sent to: Ms. Stephanie Strength, Environmental Protection Specialist, USDA, Rural Development, Utilities Programs, Engineering and Environmental Staff, 1400 Independence Avenue, SW., Stop 1571, Washington, DC 20250-1571, or e-mail: stephanie.strength@wdc.usda.gov. An Alternatives Evaluation and Site Selection Study, prepared by East Kentucky Power Cooperative, will be presented at the public scoping meeting. The Report is available for public review at RUS at the address provided in this notice, on the RUS Web site http://www.usda.gov/rus/water/ees/eis.htm, at East Kentucky Power Cooperative, INC., 4775 Lexington Road, Lexington, Kentucky 40392-0707 and at: Clark County Public Library, 370 South Burns Ave., Winchester, Kentucky 40391, phone: (859) 744-5661.

FOR FURTHER INFORMATION CONTACT: Stephanie Strength, Environmental Protection Specialist, USDA, Rural Development, Utilities Programs, Engineering and Environmental Staff, 1400 Independence Avenue, SW., Stop 1571, Washington, DC 20250-1571, telephone: (202) 720-0468. Ms. Strength's e-mail address is stephanie.strength@wdc.usda.gov.

SUPPLEMENTARY INFORMATION: EKPC proposes to construct and operate two nominal 278-megawatt coal-based electric generating units at the Smith site, southeast of Winchester, Kentucky, in Clark County. Fuel will be supplied to the plant site by rail or truck. The construction of a substation and approximately 1 mile of 345-kV transmission line would be required to connect the new plant to EKPC's transmission system. The line would go northwest from the CFB substation to the existing Combustion Turbine substation. EKPC's schedule calls for the first of these facilities to be in commercial operation by June 2010 and the second by November 2012.

Alternatives to be considered by RUS include no action, purchased power, renewable energy sources, distributed generation, and alternative site locations. Comments regarding the proposed project may be submitted (orally or in writing) at the public scoping meetings or in writing no later than November 20, 2006 to RUS at the address provided in this notice.

RUS will use input provided by government agencies, private organizations, and the public in the preparation of a Draft SEIS. The Draft SEIS will be available for review and comment for 45 days. A Final SEIS will then be prepared that considers all comments received. The Final Supplemental EIS will be available for review and comment for 30 days. Following the 30-day comment period, RUS will prepare a Record of Decision (ROD). Notices announcing the availability of the Draft and Final SEIS and the ROD will be published in the Federal Register and in local newspapers.

Any final action by RUS related to the proposed project will be subject to, and contingent upon, compliance with all relevant Federal, State and local environmental laws and regulations and completion of the environmental review requirements as prescribed in the RUS Environmental Policies and Procedures (7 CFR part 1794).

Dated: October 2, 2006.
Mark S. Plank,
Director, Engineering and Environmental Staff, USDA/Rural Development/Utilities Programs.

[FR Doc. E6-16530 Filed 10-5-06; 8:45 am]

BILLING CODE 3410-15-P